DEPARTMENT OF HOMELAND SECURITY

Coast Guard

33 CFR Part 165

[CGD01-05-033]

RIN 1625-AA00

Safety Zone; Jones Beach Air Show, Jones Beach, NY

AGENCY: Coast Guard, DHS.

ACTION: Temporary final rule.

SUMMARY: The Coast Guard is establishing a temporary safety zone for the Jones Beach Air show, Jones Beach, New York. The safety zone will provide for safety of navigation of the maritime public viewing the air show and the air show practice sessions, which consists of aircraft performing aerobatics over the water area off of Jones Beach specified within this safety zone. This temporary safety zone is necessary to protect the maritime community viewing this event from the hazards inherent with an air show. Entry into this zone is prohibited unless authorized by the Captain of the Port, Long Island Sound, New Haven, Connecticut.

DATES: This rule is effective from May 27, 2005, until May 29, 2005.

ADDRESSES: Comments and material received from the public, as well as documents indicated in this preamble as being available in the docket, are part of docket CGD01-05-033 and are available for inspection or copying at Group/MSO Long Island Sound, New Haven, CT, between 9 a.m. and 3 p.m., Monday through Friday, except Federal holidays.

FOR FURTHER INFORMATION CONTACT: Lieutenant A. Logman, Chief, Waterways Management Division, Coast Guard Group/Marine Safety Office Long Island Sound at (203) 468-4429.

SUPPLEMENTARY INFORMATION:

Regulatory Information

We did not publish a notice of proposed rulemaking (NPRM) for this regulation. Under 5 U.S.C. 553(b)(B), the Coast Guard finds that good cause exists for not publishing an NPRM and for making this rule effective in less than 30 days after publication. Jones Beach State Park submitted a Biological Opinion discussing environmental impacts of the air show on May 3, 2005. Due to the late completion of the Application for Approval of Marine Event by Jones Beach State Park, specifically the late submission of required environmental documentation, insufficient time remained to draft and publish an NPRM and publish the rule at least 30 days prior to its effective date.

Any delay in the effective date of this regulation would be contrary to the public interest as immediate action is necessary to close a portion of the Atlantic Ocean off of Jones Beach New York to protect the maritime community from the hazards associated with the air show.

Background and Purpose

The New York State Office of Parks, Recreation and Historic Preservation is sponsoring an air show at Jones Beach State Park. Jones Beach State Park is located on the south shore of Long Island, New York. The air show will consist of aircraft performing aerobatics in close proximity to other aircraft over a specified area of the Atlantic Ocean off of Jones Beach State Park. Several aerial groups will participate in the Air show, including the United States Air Force Thunderbirds. The entire air show will take place over the waters of the Atlantic Ocean immediately to the south of Jones Beach Island. The Coast Guard is establishing a safety zone in order to provide for the safety of the maritime community and spectators viewing the air show from the water, should an accident, namely, collision of aircraft, occur during the show. The safety zone will be in place from May 27, 2005, through May 29, 2005. Air shows will be held on May 28, 2005, and May 29, 2005. The air shows will take place from 10 a.m. to 3 p.m. each day. Practice air shows will be held on May 27, 2005, from 2 p.m. to 3 p.m. This rule will be enforced from 1 p.m. to 3:30 p.m. on Friday May 27, 2005, and 9 a.m. to 3:30 p.m. each day on May 28, 2005, and May 29, 2005, providing for sufficient time to clear the safety zone area prior to the practice sessions or shows, as well as additional time should the shows run over the scheduled period. The actual air show will be conducted within an area which is contained in and smaller than the safety zone area outlined by the coordinates indicated above. The larger safety zone area is needed to protect the boating community from the inherent hazards of air shows.

Discussion of Rule

The New York State Office of Parks, Recreation and Historic Preservation is sponsoring an air show at the Jones Beach State Park on May 28, 2005, and May 29, 2005. A practice session for this air show will be held on May 27, 2005. A safety zone is necessary to protect the maritime community from the hazards associated with an air show. This rule will be enforced from 1 p.m. to 3:30 p.m. on Friday May 27, 2005, and 9 a.m. to 3:30 p.m. each day on May 28, 2005, and May 29, 2005. The safety zone will be established by reference to geographic coordinates, consisting as follows: Beginning at a point on land located in Jones Beach State Park at approximate position 40°35′06″ N, 073°32′37″ W, then running east along the shoreline of Jones Beach State Park to approximate position 40°35′49″ N, 073°28′47″ W; then running south to an position in the Atlantic Ocean off of Jones Beach at approximate position 40°34′23″ N, 073°32′23″ W; then running west to approximate position 40°35′05″ N, 073°28′34″ W; then running north to the point of beginning at approximate position 40°35′06″ N, 073°32′37″ W. All coordinates are North American Datum 1983.

Any violation of the safety zone described herein, is punishable by, among others, civil and criminal penalties, in rem liability against the offending vessel, and license sanctions.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS).

We expect the economic impact of this rule to be so minimal that a full Regulatory Evaluation under the regulatory policies and procedures of DHS is unnecessary. This regulation may have some impact on the public, but these potential impacts will be minimized for the following reasons: The zone will only be enforced for a temporary period each day over three days, and vessels may transit in all areas around the zone at all times.

Small Entities

Under the Regulatory Flexibility Act (5 U.S.C. 601-612), we have considered whether this rule will have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: The owners or operators of vessels intending to transit or anchor in those portions of Atlantic Ocean off of Jones Beach State Park, Wantagh, New York covered by the safety zone.

For the reasons outlined in the Regulatory Evaluation section above, this rule will not have a significant impact on a substantial number of small entities.

If you think that your business, organization, or governmental jurisdiction qualifies as a small entity and that this rule would have a significant economic impact on it, please submit a comment (see ADDRESSES) explaining why you think it qualifies and how and to what degree this rule would economically affect it.

Assistance for Small Entities

Under subsection 213(a) of the Small Business Regulatory Enforcement Fairness Act of 1996 [Pub. L. 104-121], the Coast Guard wants to assist small entities in understanding this rule so that they can better evaluate its effects on them and participate in the rulemaking. If this rule would affect your small business, organization, or governmental jurisdiction and you have questions concerning its provisions or options for compliance, please call Lieutenant A. Logman, Waterways Management Officer, Group/Marine Safety Office Long Island Sound, at (203) 468-4429.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not concern an environmental risk to health or risk to safety that may disproportionately affect children.

Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

The Coast Guard considered the environmental impact of this rule and concluded that, under figure 2-1, paragraph 34(g), of Commandant Instruction M16475.1D, this rule is categorically excluded from further environmental documentation. A “Categorical Exclusion Determination” is available in the docket where indicated under ADDRESSES.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1

2. From May 27, 2005 to May 29, 2005 add temporary § 165.T01-033 to read as follows:

§ 165.T01-033 Safety Zone; Jones Beach Air show, Jones Beach, Wantagh, NY.

(a) Location. Beginning at a point on land located in Jones Beach State Park at approximate position 40°35′06″ N, 073°32′37″ W, then running east along the shoreline of Jones Beach State Park to approximate position 40°35′49″ N, 073°28′47″ W; then running south to an position in the Atlantic Ocean off of Jones Beach at approximate position 40°34′23″ N, 073°32′23″ W; then running west to approximate position 40°35′05″ N, 073°28′34″ W; then running north to the point of beginning at approximate position 40°35′06″ N, 073°32′37″ W. All coordinates are North American Datum 1983.

(b) Enforcement Period. This rule will be enforced from 1 p.m. to 3:30 p.m. on Friday May 27, 2005 and 9 a.m. to 3:30 p.m. each day on May 28, 2005 and May 29, 2005.

(c) Regulations. (1) In accordance with the general regulations in §165.23 of this part, entry into or movement within this zone is prohibited unless authorized by the Captain of the Port (COTP), Long Island Sound.

(2) All persons and vessels must comply with the Coast Guard Captain of the Port or designated on-scene patrol personnel. On-scene Coast Guard patrol personnel include commissioned, warrant, and petty officers of the Coast Guard on board Coast Guard, Coast Guard Auxiliary, and local, state, and federal law enforcement vessels. Upon being hailed by siren, radio, flashing light or other means from a U.S. Coast Guard vessel or other vessel with on-scene patrol personnel aboard, the operator of the vessel shall proceed as directed.

Dated: May 20, 2005.
J.J. Plunkett,
Commander, U.S. Coast Guard, , Acting Captain of the Port, Long Island Sound.

[FR Doc. 05-10592 Filed 5-23-05; 3:44 pm]

BILLING CODE 4910-15-P